ENVIRONMENTAL PROTECTION AGENCY

[EPA-HQ-OPP-2018-0563; FRL-9982-35]

Industrial Economics, Incorporated; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Industrial Economics, Incorporated in accordance with the CBI regulations. Industrial Economics, Incorporated has been awarded a contract to perform work for OPP, and access to this information will enable Industrial Economics, Incorporated to fulfill the obligations of the contract.

DATES: Industrial Economics, Incorporated will be given access to this information on or before September 10, 2018.

FOR FURTHER INFORMATION CONTACT: William Northern, Information Technology and Resources Management Division (7502P), Office of Pesticide Programs, Environmental Protection Agency, 1200 Pennsylvania Ave. NW, Washington, DC 20460-0001; telephone number: (703) 305-6478 email address: morthern.william@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-HQ-OPP-2018-0563, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

The contractor shall provide EPA such economic expertise for the annual updates of OECA's financial models, the development of new economic models as appropriate, and the education of enforcement professionals about the models and their applications and situations that may require case-specific financial analyses beyond using one of EPA's financial model.

The contractor shall, furthermore, provide accomplished expert advice to enforcement personnel about financial issues that may impact EPA enforcement litigation. When directed, the contractor shall be able to provide individuals with a record of expert capabilities and accomplishments to serve as witnesses at trials and hearings, as well as those with a knowledgeable background to support EPA during settlement negotiations.

In addition, the contractor shall provide assistance to OECA, OCE, and EPA Regional Offices on economic policy related to environment enforcement cases, as well as attendant applications of the financial models. However, EPA enforcement professionals and management will make all policy decisions in regard to ultimate financial accounting issues, approaches, and applications.

This contract will involve no subcontractors.

OPP has determined that the contract described in this document involve work that is being conducted in connection with FIFRA, in that pesticide chemicals will be the subject of certain evaluations to be made under this contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), the contract with Industrial Economics, Incorporated prohibits use of the information for any purpose not specified in these contract; prohibits disclosure of the information to a third party without prior written approval from the Agency; and requires that each official and employee of the contractor sign an agreement to protect the information from unauthorized release and to handle it in accordance with the FIFRA Information Security Manual. In addition, Industrial Economics, Incorporated is required to submit for EPA approval a security plan under which any CBI will be secured and protected against unauthorized release or compromise. No information will be provided to Industrial Economics, Incorporated until the requirements in this document have been fully satisfied. Records of information provided to Industrial Economics, Incorporated will be maintained by EPA Project Officers for this contract. All information supplied to Industrial Economics, Incorporated by EPA for use in connection with this contract will be returned to EPA when Industrial Economics, Incorporated has completed its work.

Authority: 7 U.S.C. 136 et seq.; 21 U.S.C. 301 et seq.

Dated: August 13, 2018.
Delores Barber,
Director, Information Technology and Resources Management Division, Office of Pesticide Programs.

[FR Doc. 2018-19261 Filed 9-4-18; 8:45 am]

BILLING CODE 6560-50-P